DEPARTMENT OF COMMERCE

National Institute of Standards, and Technology

Advanced Technology Program Advisory Committee; Notice of Partially Closed Meeting

AGENCY: National Institute of Standards and Technology, Department of Commerce.

ACTION: Notice of partially closed meeting.

SUMMARY: Pursuant to the Federal Advisory Committee act, 5 U.S.C. app. 2, notice is hereby given that the Advanced Technology Program Advisory Committee, National Institute of Standards and Technology (NIST), will meet Tuesday, October 17, 2000, from 8:30 a.m. to 4:30 p.m. The Advanced Technology Program Advisory Committee is composed of eight members appointed by the Director of NIST, who are eminent in such fields as business, research, new product development, engineering, education, and management consulting. The purpose of this meeting is to review and make recommendations regarding general policy for the Advanced Technology Program (ATP), its organization, its budget, and its programs within the framework of applicable national policies as set forth by the President and the Congress. The agenda will include an Update on ATP, Discussion of the Streamlined/Revamped Proposal Process; ATP 2000 Awardee Demographics; Economic Assessment Office Update; Discussion of Outreach Efforts; Leveraging States and Future ATP Strategic Initiatives; and an open discussion. Discussions scheduled to begin at 8:30 a.m. and to end at 9:30 a.m. and to begin at 3:00 p.m. and to end at 4:30 p.m. on October 17, 2000, on the ATP budget issues and staffing of positions will be closed.

DATES: The meeting will convene October 17, 2000, at 8:30 a.m. and will adjourn at 4:30 p.m. on October 17, 2000.

ADDRESSES: The meeting will be held at the National Institute of Standards and Technology, Employees Lounge, Gaithersburg, Maryland 20899.

FOR FURTHER INFORMATION CONTACT: Janet R. Russell, National Institute of Standards and Technology, Gaithersburg, MD 20899-1004, telephone number (301) 975-2107.

SUPPLEMENTARY INFORMATION: The Assistant Secretary for Administration, with the concurrence of the General Counsel, formally determined on March 30, 2000, that portions of the meeting of the Advanced Technology Program Advisory Committee which involve discussion of proposed funding of the Advanced Technology Program may be closed in accordance with 5 U.S.C. 552b(c)(9)(B), because those portions of the meetings will divulge matters the premature disclosure of which would be likely to significantly frustrate implementation of proposed agency actions; and that portions of meetings which involve discussion of staffing of positions in ATP may be closed in accordance with 5 U.S.C. 552b(c)(6), because divulging information discussed in those portions of the meetings is likely to reveal information of a personal nature where disclosure would constitute a clearly unwarranted invasion of personal privacy.

Dated: September 26, 2000.
Karen H. Brown,
Deputy Director.

[FR Doc. 00-25259 Filed 9-29-00; 8:45 am]

BILLING CODE 3510-CN-M